DEPARTMENT OF THE INTERIOR

Bureau of Land Management

[LLAKA02000.L12200000.LXSIWSGK0000.AL0000]

Notice of Availability of the Decision Record for the Delta River Special Recreation Management Area and East Alaska Resource Management Plan Amendment

AGENCY: Bureau of Land Management, Interior.

ACTION: Notice of Availability.

SUMMARY: The Bureau of Land Management (BLM) announces the availability of the Decision Record (DR) for the Delta River Special Recreation Management Area and East Alaska Resource Management Plan Amendment (Approved Plan). The BLM-Alaska State Director, Bud C. Cribley, signed the DR on March 29, 2013. The DR constitutes the final decision of the Department on the plan and is effective immediately.

ADDRESSES: The DR is available on the BLM-Alaska Web site at www.blm.gov/ak/planning. Hard copies of the DR are available upon request from the BLM Glennallen Field Office, P.O. Box 147, Glennallen, AK 99588 or by calling 907-822-3217. The Environmental Assessment (EA) for the Delta River Special Recreation Management Area (SRMA) Plan and East Alaska Resource Management Plan (RMP) Amendment, which provides the analysis upon which the decision is based, is also available at the above Web site address, the BLM Glennallen Field Office, or by calling the office at 907-822-3217.

FOR FURTHER INFORMATION CONTACT: For further information contact Serena Sweet, telephone 909-271-4543 or by email at sweet@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Delta River SRMA Plan and East Alaska RMP Amendment planning process began in 2005 with a Delta River recreation survey designed to obtain river users' opinions on issues, management actions, and preferences within the Delta River SRMA. In February and March of 2007, the BLM-Alaska Glennallen Field Office conducted a series of Benefits Based Management focus group meetings with Delta River stakeholders and Alaska Native tribes and corporations to discuss primary uses of the Delta River planning area and desired future conditions and management options. A Notice of Intent was published in the Federal Register on April 10, 2008 to initiate the formal planning process. A 60-day formal scoping period began July 15, 2008 and ended September 15, 2008. After the scoping period, the BLM, in consultation with the cooperating agencies and tribes, received input from the public, collected information on the resources and uses of the area, developed a range of reasonable future management alternatives, and analyzed the impacts of those alternatives. These analyses were reviewed within the BLM and among the cooperating agencies, and were used to develop the Environmental Assessment for the Delta River SRMA Plan and East Alaska RMP Amendment released on March 23, 2010. The comment period for the EA ended May 6, 2010. Comments received were used in the development of the Proposed Delta River SRMA Plan and Eastern Alaska RMP Amendment. The Proposed Delta River SRMA Plan and Eastern Alaska RMP Amendment was released August 1, 2011 for a 30-day protest period and a 60-day Governor's Consistency Review (GCR). The protest period ended August 31, 2011 and the GCR ended September 30, 2011. The BLM received two protests, both of which were denied in part. However, in response to issues raised in the protests, the BLM made some minor modifications to clarify terminology in the Approved Plan. On September 20, 2011, the Governor of Alaska submitted a GCR Finding of Inconsistency to the BLM Alaska State Director for the EA and Finding of No Siginficant Impact for the Delta River SRMA Plan and East Alaska RMP Amendment. On March 28, 2012, the State Director determined the Governor's finding was outside the scope of the GCR process and did not accept the Governor's recommendations. On April 27, 2012, the Governor appealed the BLM-Alaska State Director's decision to the BLM Director. On January 15, 2013, the BLM Director issued a letter to the Governor affirming the BLM-Alaska State Director's decision to reject the Governor's Inconsistency Finding.

The Approved Plan provides for a mix of river recreation uses and users, while managing to protect the environment and the outstandingly remarkable values of the Delta River SRMA. It provides a balanced management approach by emphasizing the protection of river resources from human impacts by utilizing an adaptive management approach to track the implementation and effectiveness of management actions, while still allowing for a wide range of current and future public uses and high quality recreational experiences in the Delta River SRMA. The Approved Plan also provides management direction that will minimize social conflicts, with a strong emphasis on public education and interpretive outreach.

Authority: 40 CFR 1506.6.

Bud C. Cribley,
State Director.

[FR Doc. 2013-15681 Filed 6-28-13; 8:45 am]

BILLING CODE 4310-JA-P